NATIONAL AERONAUTICS AND SPACE ADMINISTRATION

[Notice 12-048]

NASA Advisory Council; Information Technology Infrastructure Committee; Meeting

AGENCY: National Aeronautics and Space Administration.

ACTION: Notice of meeting.

SUMMARY: In accordance with the Federal Advisory Committee Act, Public Law 92-462, as amended, the National Aeronautics and Space Administration (NASA) announces a meeting of the Information Technology Infrastructure Committee of the NASA Advisory Council (NAC). This Committee reports to the NAC. The meeting will be held for the purpose of soliciting from the information technology community and other persons, IT-related information relevant to program planning.

DATES: Tuesday, July 24, 2012, 8:30 a.m. to 12 p.m., local time.

ADDRESSES: NASA Goddard Space Flight Center (GSFC), Building 28, Room E210, 8800 Greenbelt Road, Greenbelt, MD 20771.

FOR FURTHER INFORMATION CONTACT: Ms. Karen Harper, Office of the Chief Information Officer, NASA Headquarters, Washington, DC 20546, (202) 358-1807, fax (202) 358-3017, or karen.l.harper@nasa.gov.

SUPPLEMENTARY INFORMATION: The meeting will be open to the public up to the capacity of the room. This meeting is also available telephonically. Any interested person may call the USA toll free conference call number (866) 818-0788, participant pass code 9453583, to participate in this meeting by telephone. The agenda for the meeting includes the following topics:

• NASA's role in the Cross-Agency Big Data Federal Initiative.

• Discussion on report to the NASA Advisory Council.

It is imperative that the meeting be held on these dates to accommodate the scheduling priorities of the key participants. All attendees will be requested to sign a register and to comply with NASA security requirements. Visitors must show a valid State or Federal issued picture ID, green card, or passport, before receiving an access badge to enter into GFSC and must state that they are attending the NAC Information Technology Infrastructure Committee meeting in Building 28. All U.S. citizens and green card holders desiring to attend must provide their full name, company affiliation (if applicable), and citizenship to Karen Harper via email at karen.l.harper@nasa.gov or by telephone at (202) 358-1807 no later than the close of business July 16, 2012. Foreign Nationals must provide the following information: full name, gender, date/place of birth, citizenship, home address, visa information (number, type, expiration date), passport information (number, country of issue, expiration date), employer/affiliation information (name of institution, title/position, address, country of employer, telephone, email address), and an electronically scanned or faxed copy of their passport and visa to Karen Harper via email at karen.l.harper@nasa.gov or by fax at (202) 358-3017 no later than close of business July 11, 2012. If the above information is not received by the noted dates, attendees should expect a minimum delay of two (2) hours. All visitors to this meeting will report to the GSFC Main Gate where they will be processed through security prior to entering GSFC. For security questions on the day of the meeting, please call Debbie Brasel at (301) 286-6876 or email Deborah.A.Brasel@nasa.gov.

Patricia D. Rausch,
Advisory Committee Management Officer, National Aeronautics and Space Administration.

[FR Doc. 2012-15571 Filed 6-25-12; 8:45 am]

BILLING CODE 7510-13-P